DEPARTMENT OF COMMERCE

International Trade Administration

[A-533-502]

Certain Welded Carbon Steel Standard Pipes and Tubes From India: Rescission of Antidumping Duty Administrative Review

AGENCY: Import Administration, International Trade Administration, Department of Commerce.

SUMMARY: In response to requests from interested parties, the Department of Commerce (the Department) initiated an administrative review of the antidumping duty order on certain welded carbon steel standard pipes and tubes from India. The period of review is May 1, 2009, through April 30, 2010. As a result of withdrawal of the requests for review, the Department is rescinding this review.

DATES: Effective Date: November 5, 2010.

FOR FURTHER INFORMATION CONTACT: Michael Romani or Minoo Hatten, AD/CVD Operations, Office 5, Import Administration, International Trade Administration, U.S. Department of Commerce, 14th Street and Constitution Avenue, NW., Washington, DC 20230; telephone: (202) 482-0198 or (202) 482-1690, respectively.

SUPPLEMENTARY INFORMATION:

Background

On June 30, 2010, and in accordance with 19 CFR 351.213(g) and 19 CFR 351.221(b)(1), we published a notice of initiation of an administrative review of the antidumping duty order on certain welded carbon steel standard pipes and tubes from India. See Initiation of Antidumping and Countervailing Duty Administrative Reviews and Requests for Revocation in Part, 75 FR 37759 (June 30, 2010). Based on various requests for review, we initiated reviews of Lloyds Group and all affiliates (including but not limited to Lloyds Metals & Engineers Ltd. and Lloyds Steel Industries Ltd.) (collectively, Lloyds) and Ushdev International Ltd.

Rescission of Review

In accordance with 19 CFR 351.213(d)(1), the Department will rescind an administrative review, “in whole or in part, if a party that requested a review withdraws the request within 90 days of the date of publication of notice of initiation of the requested review. The Secretary may extend this time limit if the Secretary decides that it is reasonable to do so.” On October 14, 2010, the U.S. Steel Corporation withdrew its request for a review of the order with respect to Lloyds and Ushdev International Ltd. Lloyds withdrew its request for review on October 18, 2010. Although the parties submitted letters withdrawing their review requests after the 90-day regulatory deadline, the Department finds it is reasonable to extend the deadline for withdrawing review requests because it has not yet devoted significant time or resources to the review.

Because we received no other requests for review of Lloyds, we are rescinding the administrative review of the order with respect to Lloyds Group and all affiliates, Lloyds Metals & Engineers Ltd., and Lloyds Steel Industries Ltd. Because we received no other requests for review of Ushdev International Ltd., we are also rescinding the review with respect to Ushdev International Ltd. This rescission is in accordance with 19 CFR 351.213(d)(1). The Department intends to issue appropriate assessment instructions to U.S. Customs and Border Protection 15 days after publication of this notice.

Notifications

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning destruction of proprietary information disclosed under an APO in accordance with 19 CFR 351.305(a)(3). Timely written notification of the destruction of APO materials or conversion to judicial protective order is hereby requested. Failure to comply with the regulations and terms of an APO is a violation which is subject to sanction.

This notice is published in accordance with section 777(i)(1) of the Act and 19 CFR 351.213(d)(4).

Dated: November 1, 2010.
Susan H. Kuhbach,
Acting Deputy Assistant Secretary for Antidumping and Countervailing Duty Operations.

[FR Doc. 2010-28055 Filed 11-4-10; 8:45 am]

BILLING CODE 3510-DS-P